DEPARTMENT OF COMMERCE

National Oceanic and Atmospheric Administration

RIN 0648-XA060

Caribbean Fishery Management Council; Public Meetings; Cancellation

AGENCY: National Marine Fisheries Service (NMFS), National Oceanic and Atmospheric Administration (NOAA), Commerce.

ACTION: Notice of cancellation of a public meeting.

SUMMARY: The Caribbean Fishery Management Council is cancelling a one-day meeting of the District Advisory Panels (DAPs) of St. Thomas/St. John, USVI.

DATES: The meeting was scheduled for Wednesday, March 25, 2020, from 9 a.m. to 5 p.m.

ADDRESSES: Council address: Caribbean Fishery Management Council, 270 Muñoz Rivera Avenue, Suite 401, San Juan, Puerto Rico 00918-1903.

FOR FURTHER INFORMATION CONTACT: Miguel A. Rolón at Caribbean Fishery Management Council, 270 Muñoz Rivera Avenue, Suite 401, San Juan, Puerto Rico 00918-1903; telephone: (787) 766-5926.

SUPPLEMENTARY INFORMATION: The meeting notice published on March 3, 2020, (85 FR 12522). Due the COVID-19 pandemic, the meeting has been cancelled.

Authority: 16 U.S.C. 1801 et seq.

Dated: March 17, 2020.
Tracey L. Thompson,
Acting Deputy Director, Office of Sustainable Fisheries, National Marine Fisheries Service.

[FR Doc. 2020-05950 Filed 3-19-20; 8:45 am]

BILLING CODE 3510-22-P